DEPARTMENT OF TRANSPORTATION

Federal Aviation Administration

14 CFR Part 39

[Docket No. 2002-NM-174-AD; Amendment 39-13483; AD 2004-04-03

RIN 2120-AA64

Airworthiness Directives; Boeing Model 737-300, -400, and -500 Series Airplanes

AGENCY: Federal Aviation Administration, DOT.

ACTION: Final rule; correction.

SUMMARY: This document corrects a typographical error that appeared in airworthiness directive (AD) 2004-04-03 that was published in the Federal Register on February 18, 2004 (69 FR 7565). The typographical error resulted in a reference to an incorrect effective date in the compliance time specified in Table 1 of the AD for Group 1 airplanes. This AD is applicable to certain Boeing Model 737 series airplanes. This AD requires a one-time general visual inspection of the seat locks and seat tracks of the flightcrew seats to ensure that the seats lock in position and to verify that lock nuts and bolts of adequate length are installed on the rear track lock bracket, and corrective action, if necessary.

DATES: Effective March 24, 2004.

FOR FURTHER INFORMATION CONTACT: Shannon Lennon, Aerospace Engineer, Cabin Safety and Environmental Systems Branch, ANM-150S, FAA, Seattle Aircraft Certification Office, 1601 Lind Avenue, SW., Renton, Washington; telephone (425) 917-6436; fax (425) 917-6590.

SUPPLEMENTARY INFORMATION: Airworthiness Directive (AD) 2004-04-03, amendment 39-13483, applicable to certain Boeing Model 737 series airplanes, was published in the Federal Register on February 18, 2004 (69 FR 7565). That AD requires a one-time general visual inspection of the seat locks and seat tracks of the flightcrew seats to ensure that the seats lock in position and to verify that lock nuts and bolts of adequate length are installed on the rear track lock bracket, and corrective action, if necessary.

As published, that final rule incorrectly specifies “September 26, 2001” as the effective date for AD 2000-10-21 in the compliance time specified for Group 1 airplanes in Table 1 of that final rule. The correct effective date of AD 2000-10-21 is “June 12, 2000.” It was the FAA's intent that operators use June 12, 2000, to determine the compliance time for Group 1 airplanes as specified in Table 1 of that final rule, as evidenced by the explanatory parenthetical reference “(the effective date of AD 2000-10-21, amendment 39-11745).”

Since no other part of the regulatory information has been changed, the final rule is not being republished in the Federal Register.

The effective date of this AD remains March 24, 2004.

§ 39.13 [Corrected]

On page 7566, the second column of Table 1 of AD 2004-04-03 is corrected to read as follows:

* * * * *

Table 1.—Compliance Time/Service Bulletin
Airplanes— | Compliance time— | Service bulletin—
For Group 1 airplanes listed in Boeing Alert Service Bulletin 737-25A1363, Revision 1, dated March 28, 2002 | Within 90 days after June 12, 2000 (the effective date of AD 2000-10-21, amendment 39-11745) | Boeing Alert Service Bulletin 737-25A1363, dated November 5, 1998.
For Group 2 airplanes listed in Boeing Alert Service Bulletin 737-25A1363, Revision 1, dated March 28, 2002 | Within 90 days after the effective date of this AD | Boeing Alert Service Bulletin 737-25A1363, Revision 1, dated March 28, 2002.

* * * * *

Issued in Renton, Washington, on April 1, 2004.
Kalene C. Yanamura,
Acting Manager, Transport Airplane Directorate, Aircraft Certification Service.

[FR Doc. 04-8296 Filed 4-12-04; 8:45 am]

BILLING CODE 4910-13-P